ENVIRONMENTAL PROTECTION AGENCY

[FRL-7390-5]

Agency Information Collection Activities; OMB Responses

AGENCY: Environmental Protection Agency (EPA).

ACTION: Notice.

SUMMARY: This document announces the Office of Management and Budget's (OMB) responses to Agency clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby at (202) 566-1672, or e-mail at Auby.susan@epa.gov. and please refer to the appropriate EPA Information Collection Request (ICR) Number.

SUPPLEMENTARY INFORMATION:

OMB Responses to Agency Clearance Requests

OMB Approvals

EPA ICR No. 0988.08 Water Quality Standards Regulation in 40 CFR part 131; was approved 08/20/2002; OMB No. 2040-0049; expires 08/31/2005.

EPA ICR No. 1688.04; RCRA Expanded Public Participation; in 40 CFR 124.31-124.33, 270.62, and 270.66; was approved 08/16/2002; OMB No. 2050-0149; expires 08/31/2005.

EPA ICR No. 2081.01; National Epidemiological and Environmental Assessment of Recreational Water Study (N.E.E.A.R.); was approved 08/15/2002; OMB No. 2080-0068; expires 08/31/2005.

EPA ICR No. 0328.10; Spill Prevention, Control and Countermeasures (SPCC) Plans; in 40 CFR 112.1-112.7; was approved 08/12/2002; OMB No. 2050-0021; expires 08/31/2005.

EPA ICR No. 2030.01; Reliability, Validity, and Variability in Behavioral Determinants of Drinking Water Disinfection By-Product Exposure; was approved 08/20/2002; OMB No. 2080-0067; expires 08/31/2005.

EPA ICR No. 1100.11; National Emission Standards for Hazardous Air Pollutants: Radionclides in 40 CFR part 61, subparts B, H, K, R and W; was approved 8/26/2002; OMB No. 2060-0191; expires 08/31/2005.

EPA ICR No. 1788.03; NESHAP: Oil and Natural Gas Production in 40 CFR part 63, subpart HH was approved 08/26/2002; OMB No. 2060-0417; expires 08/31/2005.

EPA ICR No. 1983.02; NESHAP for Source Categories: Generic Maximum Achievable Control Technology Standards (Final Rule); in 40 CFR part 63, subpart YY; OMB No. 2060-0489; was approved 08/29/2002; expires 08/31/2005.

EPA ICR No. 1974.02; National Emission Standards for Hazardous Air Pollutants for Cellulose Products Manufacturing (Final Rule); in 40 CFR part 63, subparts F, G, H and UU; was approved 08/30/2002; OMB No. 2060-0488; expires 08/31/2005.

EPA ICR No. 2063.01; 2003 Report to Congress on Impacts and Control of Combined Sewer Overflows and Sanitary Sewer Overflows; was approved 09/16/2002; OMB No. 2040-0248; expires 07/31/2003.

EPA ICR No. 0138.07; Modification of Secondary Treatment Requirements for Discharges into Marine Waters; in 40 CFR part 125, subpart G; was approved 09/16/2002; OMB No. 2040-0088; expires 09/30/2005.

EPA ICR No. 0982.07; NSPS for Metallic Mineral Processing Plants (subpart LL); in 40 CFR part 60, subpart LL; was approved 09/06/2002; OMB No. 2060-0016; expires 09/30/2005.

EPA ICR No. 1789.03; NESHAP: Natural Gas Transmission and Storage Facilities in 40 CFR part 63, subpart HHH; was approved 09/04/2002; OMB No. 2060-0418; expires 09/30/2005.

EPA ICR No. 1957.02; Reporting and Recordkeeping Requirements for Metal Coil Surface Coating Plants; in 40 CFR part 63, subpart SSSS; OMB No. 2060-0487; was approved 08/12/2002; expires 08/31/2005.

EPA ICR No. 1996.01; National Survey on Environmental Management of Asthma; OMB No. 2060-0490; was approved 08/14/2002; expires 08/31/2005.

EPA ICR No. 2056.01; National Emission Standards for Hazardous Air Pollutants; Miscellaneous Metal Parts and Products Surface Coating Operations; in 40 CFR part 63, subpart MMMM; OMB No. 2060-0486; was approved 8/19/2002; expires 08/31/2005.

EPA ICR No. 1852.02; Exclusion Determinations for New Non-road Spark-ignited Engines at or Below 19 Kilowatts, New Non-road Compression-ignited Engines New Marine Engines, and New on-road Heavy Duty Engines; in 40 CFR part 85; was approved on 8/21/2002; OMB No. 2060-0395; expires 08/31/2005.

Short Term Extensions

EPA ICR No. 1286.05; Used Oil Management Standards Recordkeeping and Reporting Requirements; in 40 CFR 279.10; 279.11, 279.42-279.44, 279.52-279.55, 279.57, 279.63 and 279.82; OMB No. 2050-0124; on 08/29/2002 OMB extended the expiration date through 09/30/2002.

EPA ICR No. 0601.06; FIFRA Section 29 Annual Report on Conditional Registrations; OMB No. 2070-0026; on 08/30/2002 OMB extended the expiration date through 11/30/2002.

EPA ICR No. 0595.07; Notice of Pesticide Registration by States to Meet a Special Local Need—Section 24(c); OMB No. 2070-0055; on 08/30/2002 OMB extended the expiration date through 11/30/2002.

EPA ICR No. 0161.08; Foreign Purchaser Acknowledgment Statement of Unregistered Pesticides; OMB No. 2070-0027; on 08/30/2002 OMB extended the expiration date through 11/30/2002.

EPA ICR No. 1188.06; Significant New Use Rules for Existing Chemicals—TSCA Section 5(a); OMB No. 2070-0038; on 08/30/2002 OMB extended the expiration date through 11/30/2002.

EPA ICR No. 1912.01; Information Collection Request: National Primary Drinking Water Regulation for Lead and Copper (Final Rule); OMB No. 2040-0210; on 09/19/2002 OMB extended the expiration date through 12/31/2002.

EPA ICR No. 0940.16; Ambient Air Quality Surveillance in 40 CFR part 58; OMB No. 2060-0084; on 09/19/2002 OMB extended the expiration date through 12/31/2002.

EPA ICR No. 1813.02; Final Regional Haze Rule; OMB No. 2060-0421; on 09/20/2002 OMB extended the expiration date through 12/31/2002.

Withdrawn

EPA ICR No. 2036.01; Superfund De Minimis Settlement Reform Survey; was withdrawn by EPA on 08/22/2002.

EPA ICR No. 2037.01; Superfund PRP Oversight Reform Survey; was withdrawn by EPA on 08/22/2002.

EPA ICR No. 2035.01; Superfund Orphan Share Compensation Reform Survey; was withdrawn by EPA on 9/22/2002.

Disapproved

EPA ICR No. 1842.03; Notice of Intent for Storm Water Discharges Associated with Construction Activity under an NPDES General Permit (Proposed Rule for construction and Development); OMB No. 2040-0188; on 8/20/2002 OMB disapproved the ICR for the proposed rule and continued approval for the base ICR through 03/31/2003.

Dated: September 25, 2002.
Oscar Morales,
Director, Collection Strategies Division.

[FR Doc. 02-25303 Filed 10-3-02; 8:45 am]

BILLING CODE 6560-50-P